DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300a-12(b)(2), requires that “[w]ithin 30 days after the Secretary receives service of any petition filed under section 2111 the Secretary shall publish notice of such petition in the Federal Register.” Set forth below is a list of petitions received by HRSA on June 1, 2014, through June 30, 2014. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: June 18, 2014.
Mary K. Wakefield,
Administrator.

List of Petitions Filed

1. Jeanne Daniels, Bedford, New Hampshire, Court of Federal Claims No: 14-0461V

2. Leslie Fox, Salinas Valley, California, Court of Federal Claims No: 14-0462V

3. John Haak, Santa Cruz, California, Court of Federal Claims No: 14-0463V

4. Danette Colagreco, Wayne, Pennsylvania, Court of Federal Claims No: 14-0465V

5. Jeanna Terrell, Maysville, North Carolina, Court of Federal Claims No: 14-0467V

6. Laura Cechanowicz, Los Angeles, California, Court of Federal Claims No: 14-0469V

7. Dorothy Shields on behalf of Najee Shields, Deceased, Chicago, Illinois, Court of Federal Claims No: 14-0470V

8. Carie Brown on behalf of K.B., Ellsworth, Kansas, Court of Federal Claims No: 14-0471V

9. Alisa Pattaluga on behalf of D.P., Warwick, New York, Court of Federal Claims No: 14-0472V

10. Kelly Hayes McAlonie, Boston, Massachusetts, Court of Federal Claims No: 14-0473V

11. William Cartwright, Boston, Massachusetts, Court of Federal Claims No: 14-0474V

12. Marlon Sporer, New York, New York, Court of Federal Claims No: 14-0475V

13. Marcie Mintz, Chicago, Illinois, Court of Federal Claims No: 14-0476V

14. Robert Talton, Jacksonville, Florida, Court of Federal Claims No: 14-0479V

15. Debora Russo, Trooper, Pennsylvania, Court of Federal Claims No: 14-0480V

16. James R. Furniss, Jr., Bartlett, Tennessee, Court of Federal Claims No: 14-0481V

17. Garland L. Snyder and Jennifer D. Snyder on behalf of J.L.S., Knoxville, Tennessee, Court of Federal Claims No: 14-0482V

18. Charles Czagas, Concord, North Carolina, Court of Federal Claims No: 14-0483V

19. Brandy Humphries, Littleton, Colorado, Court of Federal Claims No: 14-0484V

20. Gary Knight, Denver, North Carolina, Court of Federal Claims No: 14-0485V

21. George Cawthon, Gainesville, Florida, Court of Federal Claims No: 14-0486V

22. Kayla Mason on behalf of E.F., Warren, Ohio, Court of Federal Claims No: 14-0487V

23. Laura Riggs, Jacksonville, Florida, Court of Federal Claims No: 14-0488V

24. Lisa Marshall on behalf of F.M., Morristown, Tennessee, Court of Federal Claims No: 14-0491V

25. Alfred Zacchia, Somers Point, New Jersey, Court of Federal Claims No: 14-0493

26. Tony Surace, Gainesville, Georgia, Court of Federal Claims No: 14-0499V

27. Kathryn Davis, Phoenix, Arizona, Court of Federal Claims No: 14-0504V

28. Katherine M. Kelley on behalf of Bo Kelley, Ashburn, Virginia, Court of Federal Claims No: 14-0505V

29. Patrick Steven Chad MacDonald, Alpena, Michigan, Court of Federal Claims No: 14-0509V

30. Vyacheslav Zaretskiy, Gaithersburg, Maryland, Court of Federal Claims No: 14-0511V

31. Cynthia Mathis, San Antonio, Texas, Court of Federal Claims No: 14-0512V

32. Clarissa Gibbs and Derrick Eggleston on behalf of A.E., Longwood, Florida, Court of Federal Claims No: 14-0520V

33. Al Lesean Sutton, Wilson, North Carolina, Court of Federal Claims No: 14-0522V

34. Laura Broomfield, Tempe, Arizona, Court of Federal Claims No: 14-0523V

35. Nancy C. Howell, Austin, Texas, Court of Federal Claims No: 14-0524V

36. Louis A. Caputo, Pittsburg, Kansas, Court of Federal Claims No: 14-0525V

37. Kelly Laffey, Charleston, South Carolina, Court of Federal Claims No: 14-0526V

38. Rebecca Fishkis, Baraboo, Wisconsin, Court of Federal Claims No: 14-0527V

39. James Harrison Cockrell, Jr., Gardendale, Alabama, Court of Federal Claims No: 14-0528V

40. Leslie Hornick, Fulton, Missouri, Court of Federal Claims No: 14-0530V

41. John Nazaka, Merrimack, New Hampshire, Court of Federal Claims No: 14-0533V

42. Torren Grace, Cincinnati, Ohio, Court of Federal Claims No: 14-0540V

43. Milena Gottlieb, Hazlet, New Jersey, Court of Federal Claims No: 14-0543V

44. Brenda Wieckhorst and Michael Wieckhorst on behalf of M.P.W., Lincoln, Nebraska, Court of Federal Claims No: 14-0545V

45. Veronica Ettel, Largo, Florida, Court of Federal Claims No: 14-0546V

46. Ketleen Dormeus, Philadelphia, Pennsylvania, Court of Federal Claims No: 14-0551V

47. Stephen B. Hales, Seattle, Washington, Court of Federal Claims No: 14-0552V

48. Mary Dedon, Boutte, Louisiana, Court of Federal Claims No: 14-0553V

49. Darka Raicevic, Irvine, California, Court of Federal Claims No: 14-0554V

50. Jay Dubell, Boston, Massachusetts, Court of Federal Claims No: 14-0555V

51. Joel Vessey, Boston, Massachusetts, Court of Federal Claims No: 14-0556V

52. Beatrice Thompson, Des Planes, Illinois, Court of Federal Claims No: 14-0558V

53. Annette Terry, Fulton, Missouri, Court of Federal Claims No: 14-0559V

54. Jean Yates on behalf of Robert Yates, Deceased, Mt. Kisco, New York, Court of Federal Claims No: 14-0560V

[FR Doc. 2014-17452 Filed 7-23-14; 8:45 am]

BILLING CODE 4165-15-P